DEPARTMENT OF THE TREASURY

Office of the Comptroller of the Currency

[OCC Charter Number 701532]

Liberty Federal Savings Bank, Enid, Oklahoma; Approval of Voluntary Supervisory Conversion Application

Notice is hereby given that on April 16, 2018, the Office of the Comptroller of the Currency (OCC) approved the application of Liberty Federal Savings Bank, Enid, Oklahoma, to convert to the stock form of organization. Copies of the application are available on the OCC website at the FOIA Reading Room (https://foia-pal.occ.gov/palMain.aspx) under Mutual to Stock Conversion Applications. If you have any questions, please contact Licensing Activities at (202) 649-6260.

Dated: June 5, 2018.
By the Office of the Comptroller of the Currency.
Donald W. Dwyer,
Thrift Licensing Lead Expert.

[FR Doc. 2018-12451 Filed 6-8-18; 8:45 am]

BILLING CODE 4810-33-P